DEPARTMENT OF ENERGY

Federal Energy Regulatory Commission

[Docket No. OR07-3-000]

BP West Coast Products LLC, Chevron Products Company, ExxonMobil Oil Corporation, Tesoro Refining and Marketing Company, and Valero Marketing & Supply Company, Complainants, v. SFPP, L.P., Respondent; Notice of Complaint

December 21, 2006.

Take notice that on December 20, 2006, BP West Coast Products LLC, Chevron Products Company, ExxonMobil Oil Corporation, Tesoro Refining and Marketing Company, and Valero Marketing & Supply Company (Indicated Shippers) filed a formal complaint against SFPP, L.P. pursuant to Rule 206 of the Rules of Practice and Procedure of the Federal Energy Regulatory Commission, 18 CFR 385.206; the Procedural Rules Applicable to Oil Pipeline Proceedings, 18 CFR 343.2; sections 1(4), 1(5), 8, 9, 13, 15, and 16 of the Interstate Commerce Act 49 U.S.C. App. 1(4), 1(5), 8, 9, 13, 15, and 16 (1984).

Complainant alleges that SFPP, L.P. (SFPP) North Line rates are unjust and unreasonable. Complainants request that the Commission determine that SFPP's 2005 North Line index rate increase is unjust and unreasonable; determine that SFPP overcharged the Indicated Shippers for shipments of refined petroleum products from Concord, CA to Reno, NV from July 1, 2005 to the present date and is continuing to overcharge the Indicated Shippers for such shipments; order SFPP to pay refunds, reparations and/or damages, plus interest, to the Indicated Shippers for shipments made to them on the North Line from July 1, 2005 to the present; grant the Indicated Shippers such other, different or additional relief as the Commission may determine to be appropriate.

Indicated Shippers certify that copies of the complaint were served on the contracts for SFPP as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 9, 2007.

Magalie R. Salas,
Secretary.

[FR Doc. E6-22359 Filed 12-28-06; 8:45 am]

BILLING CODE 6717-01-P